Proclamation 10393 of May 6, 2022

Mother's Day, 2022

By the President of the United States of America

A Proclamation

Every Mother's Day, we give special thanks to honor and celebrate the mothers in our lives. Mothers across America provide unconditional love and extraordinary strength. They are our rocks in moments of crisis and our guiding lights when we need it most. Our Nation would not be where we are today without their enduring foundation of love and support.

This Mother's Day and every day, I celebrate the mothers who have anchored my life. I honor my wife, Jill—the love of my life and my north star. After profound loss, Jill gave me back my life, and she made me believe that our family could be whole again. She brings us joy and laughter every day. And I remember my own mother—Catherine Eugenia “Jean” Finnegan Biden—who has been gone since 2010 and whom I miss every day. She taught me that character and integrity matter. When I succeeded, she was also quick to remind me it was because of the support and prayer of others. And if I did not succeed the first time, she made sure I picked myself up and kept at it. To this day, I live by her words.

In a year of extraordinary challenges, mothers have done what they always have—carried their families, communities, and our Nation with selflessness and courage, despite the barriers that they so often face. Americans must always care for our mothers in turn: mothers who have worked to make ends meet for their families, even in workplaces where they face discrimination and disparities; mothers who serve simultaneously as frontline workers and caregivers; mothers who are grieving the loss of a child; and all mothers across the Nation, who sacrifice every day.

My Administration is working to build our economy from the bottom up and the middle out to give America's hardworking mothers some much needed breathing room. Through the American Rescue Plan, we delivered a historic expansion of the Child Tax Credit, which helped us reduce child poverty last year by an estimated 40 percent. We also delivered increased Federal subsidies for child care providers, along with critical utility assistance for low-income families. My Administration is also committed to ensuring that pregnancy and childbirth are safe and dignified experiences for all families. That is why we are working hard to address our maternal health crisis. America's maternal mortality rates are among the highest in the developed world, and they are especially high among Black women and Native American women, regardless of their income or education levels. We must continue working to improve health outcomes for pregnant women and mothers across the board.

The progress we are making for mothers is undeniable, but we are not done yet. We are still fighting hard to pass paid family and medical leave for American workers, to address the barriers and discrimination women continue to face in the workplace, and to strengthen and invest in our country's care infrastructure. As we work to build a better America, I will continue to use every tool at my disposal to ensure that all mothers and families have the opportunities they need to thrive.

My mom used to always say, “The greatest virtue of all is courage, because without courage, you couldn't love with abandon.” Every day, mothers summon the courage to love us with abandon. On Mother's Day, we honor all of the mothers who continue to build, shape, and sustain our Nation.

The Congress, by joint resolution approved May 8, 1914 (38 Stat. 770), has designated the second Sunday in May each year as “Mother's Day” and requested the President to call for its appropriate observance.

NOW, THEREFORE, I, JOSEPH R. BIDEN JR., President of the United States of America, by virtue of the authority vested in me by the Constitution and the laws of the United States, do hereby proclaim May 8, 2022, as Mother's Day. I urge all Americans to express their love, respect, and gratitude to mothers everywhere. I call upon all citizens to observe this day with appropriate programs, ceremonies, and activities.

IN WITNESS WHEREOF, I have hereunto set my hand this sixth day of May, in the year of our Lord two thousand twenty-two, and of the Independence of the United States of America the two hundred and forty-sixth.

[FR Doc. 2022-10192

Filed 5-10-22; 8:45 am]

Billing code 3395-F2-P